NATIONAL AERONAUTICS AND SPACE ADMINISTRATION

[Notice (10-010)]

NASA Advisory Council; Technology and Innovation Committee; Meeting.

AGENCY: National Aeronautics and Space Administration.

ACTION: Notice of meeting.

SUMMARY: In accordance with the Federal Advisory Committee Act, Public Law 92-463, as amended, the National Aeronautics and Space Administration (NASA) announce a meeting of the newly formed Technology and Innovation Committee of the NASA Advisory Council (NAC). This will be the first meeting of this Committee. The Meeting will be held for the purpose of reviewing NASA's technology program and exploring the culture of innovation within NASA and ways to expand NASA's technology activities to stimulate innovation, mature and infuse technologies in meeting the goals, needs, and challenges of NASA and national priorities.

DATES: Thursday, February 11, 2010, 8:30 a.m. to 6 p.m., PST.

ADDRESSES: NASA Ames Conference Center (Building 3), Rooms: Showroom and Mezzanine, 500 Severyns Road, NASA Research Park, NASA Ames Research Center (ARC), Moffett Field, CA 94035-1000.

FOR FURTHER INFORMATION CONTACT: Mr. Rick Howard, Office of the Chief Engineer, Washington, DC 20546, (202) 358-0898, fax (202) 358-3296.

SUPPLEMENTARY INFORMATION: The agenda for the meeting includes the following topics:

—NASA's Technology and Innovation Study report

—NASA FY2011 President's Budget Request (technology elements)

—Technology organizational structure within NASA

It is imperative that the meeting be held on this date to accommodate the scheduling priorities of the key participants. The meeting will be open to the public up to the seating capacity of the room. Visitors will need to show a valid, officially-issued picture identification such as driver's license to enter into the NASA Research Park, and must state they are attending the session in the NASA ARC Conference Center. All non-U.S. citizens must submit their name, current address, citizenship, company affiliation (if applicable) to include address, telephone number, and their title, place of birth, date of birth, U.S. visa information to include type, number, and expiration date, U.S. Social Security Number (if applicable), Permanent Resident Alien card number and expiration date (if applicable), place and date of entry into the U.S., and Passport information to include Country of issue, number, and expiration date to Rho Christensen, Protocol Specialist, Office of the Center Director, NASA ARC, Moffett Field, CA, by January 27, 2010. Any person interested in participating in the meeting by telephone should contact Rho Christensen for the toll-free number and pass code for the meeting. For questions, please call Rho Christensen at (650) 604-2476.

January 19, 2010.
P. Diane Rausch
Advisory Committee Management Officer, National Aeronautics and Space Administration.

[FR Doc. 2010-1403 Filed 1-25-10; 8:45 am]

BILLING CODE 7510-13-P